DEPARTMENT OF HEALTH AND HUMAN SERVICES

Health Resources and Services Administration

Statement of Organization, Functions and Delegations of Authority

This notice amends Part R of the Statement of Organization, Functions and Delegations of Authority of the Department of Health and Human Services (HHS), Health Resources and Services Administration (HRSA) (60 FR 56605, as amended November 6, 1995; as last amended at 79 FR 75164-75165 dated December 17, 2014).

This notice reflects organizational changes in the Health Resources and Services Administration (HRSA), Healthcare Systems Bureau (HSB). Specifically, this notice: (1) Updates the functional statement for the Division of National Hansen's Disease Programs (RRH).

Chapter RR—Healthcare Systems Bureau

Section RR—00, Mission

The Healthcare Systems Bureau (HSB) protects the public health and improves the health of individuals through an array of programs that provide national leadership and direction in targeted areas.

Section RR-20, Functions

Delete the functional statement for the Division of National Hansen's Disease Programs (RRH) in its entirety and replace with the following:

Division of National Hansen's Disease Programs (RRH)

The National Hansen's Disease Programs (NHDP) in accordance with regulations of the Public Health Service (PHS) Act, Sec. 320 as amended by Sec. 211, PL105-78); (1) provides care and treatment for persons with Hansen's Disease (leprosy), including managing a national short-term and outpatient health care delivery program providing specialized services to persons with Hansen's Disease; (2) conducts and promotes the coordination of research (including clinical research), investigations, demonstrations, and studies relating to the causes, diagnosis, treatment, control, and prevention of Hansen's disease and other mycobacterial diseases and complications related to such diseases; (3) conducts training in the diagnosis and management of Hansen's disease and related complications; (4) provides education and training to staff from the outpatient Hansen's Disease Clinics and private physicians; (5) operates and oversees the National Hansen's Disease Museum and Cemetery; (6) consults on the coordination of activities within HRSA and HHS, and with other federal agencies, state and local governments, and other public and private organizations involved in Hansen's Disease activities; and (7) manages a network of outpatient clinics through contracts providing care to persons with Hansen's Disease.

Section RR-30, Delegations of Authority

All delegations of authority and re-delegations of authority made to HRSA officials that were in effect immediately prior to this reorganization, and that are consistent with this reorganization, shall continue in effect pending further re-delegation.

This reorganization is effective upon date of signature.

Dated: January 16, 2015.
Mary K. Wakefield,
Administrator.

[FR Doc. 2015-01131 Filed 1-22-15; 8:45 am]

BILLING CODE 4165-15-P